DEPARTMENT OF HOMELAND SECURITY

Federal Emergency Management Agency

[Docket ID: FEMA-2025-0010; OMB No. 1660-0153]

Agency Information Collection Activities: Submission for OMB Review, Comment Request; National Business Emergency Operation Center (NBEOC) Membership Agreement Form.

AGENCY: Federal Emergency Management Agency, Department of Homeland Security.

ACTION: 30-Day Notice of Extension and Request for Comments.

SUMMARY: The Federal Emergency Management Agency (FEMA) will submit the information collection abstracted below to the Office of Management and Budget for review and clearance in accordance with the requirements of the Paperwork Reduction Act of 1995. FEMA invites the general public to take this opportunity to comment on an extension of a currently approved information collection. In accordance with the requirements of the Paperwork Reduction Act of 1995, this notice seeks comments concerning FEMA's compilation and information sharing leveraging the National Business Emergency Operation Center (NBEOC) stakeholder listing. FEMA seeks to voluntarily continue the standing practice of collecting entity specific information during an event to assist in response/recovery operations.

DATES: Comments must be submitted on or before September 2, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Matthew Scott, Management and Program Analyst, Logistics Management Directorate, Office of Response and Recovery, (202) 812-6418 or matthew.scott@fema.dhs.gov. You may contact the Information Management Division for copies of the proposed collection of information at email address: FEMA-Information-Collections-Management@fema.dhs.gov.

SUPPLEMENTARY INFORMATION: FEMA collects this information to facilitate communication between FEMA and the participants of FEMA's National Business Emergency Operations Center (NBEOC). Written consent is requested pursuant to the Privacy Act of 1974, 5 U.S.C. 552a(b). The information on this form in the “NBEOC Contact Information” section may be disclosed internally within Department of Homeland Security (DHS) as generally permitted under 5 U.S.C. 552a(b)(1) of the Privacy Act of 1974, as amended, and will not be shared outside of DHS. The program for which this form may be used is authorized by the Robert T. Stafford Disaster Relief and Emergency Assistance Act as amended, 42 U.S.C. 5121-5207; The Homeland Security Act of 2002, 6 U.S.C. 311-321j; 44 CFR 206.2(a)(27); the Personal Responsibility and Work Opportunity Reconciliation Act of 1996 (Pub. L. 104-193); and E.O. 13411, Improving Assistance for Disaster Victims. Information collected is as follows: Representative's Name, Business Entity Name, Representative's Signature, Representative's Title, Business Email Address, and Business Category (ex: Small Business, Large Business, Non-Profit, etc.).

This proposed information collection previously published in the Federal Register on April 30, 2025, at 90 FR 17946 with a 60-day public comment period. No comments were received. The purpose of this notice is to notify the public that FEMA will submit the information collection abstracted below to the Office of Management and Budget for review and clearance.

Collection of Information

Title: National Business Emergency Operation Center (NBEOC) Membership Agreement.

Type of Information Collection: Extension of a currently approved information collection.

OMB Number: 1660-0153.

FEMA Form: FEMA Form FF-145-FY-21-101, National Business Emergency Operation Center (NBEOC) Membership Agreement Form.

Abstract: FEMA's NBEOC collects this data for the primary purpose of maintaining a private sector stakeholder roster and mailing list for information dissemination, outreach, and coordination. FEMA leverages this information to engage stakeholders to coordinate disaster response operations, garner donations, and gain situational awareness around private sector actions that will help inform FEMA Leadership and assist evidence-based decision making.

Affected Public: Business or other for profit, Not-for-profit institutions, Federal Government, and State, Local or Tribal Governments.

Estimated Number of Respondents: 232.

Estimated Number of Responses: 232.

Estimated Total Annual Burden Hours: 116.

Estimated Total Annual Respondent Cost: $7,901.

Estimated Respondents' Operation and Maintenance Costs: $0.

Estimated Respondents' Capital and Start-Up Costs: $0.

Estimated Total Annual Cost to the Federal Government: $16,664.

Comments: Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Russell R. Bard,
Acting Senior Director for Information Management, Office of the Chief Administrative Officer, Mission Support, Federal Emergency Management Agency, Department of Homeland Security.

[FR Doc. 2025-14503 Filed 7-30-25; 8:45 am]

BILLING CODE 9111-24-P